DEPARTMENT OF HOUSING AND URBAN DEVELOPMENT

[Docket No. FR-4977-N-02]

Notice of Submission of Proposed Information Collection to OMB: Emergency Comment Request; Partnership for Advancing Technology in Housing (PATH) Cooperative Research Program

AGENCY: Office of Policy Development and Research, HUD.

ACTION: Notice.

SUMMARY: The proposed information collection requirement described below will be submitted to the Office of Management and Budget (OMB) for emergency review and approval, as required by the Paperwork Reduction Act. The Department is soliciting public comments on the subject proposal.

DATES: Comments Due Date: May 23, 2005.

ADDRESSES: Interested persons are invited to submit comments regarding this proposal. Comments must be received within (30) days from the date of this Notice. Comments should refer to the proposal by name and/or OMB approval number (2528-XXXX) and should be sent to, Mr. Mark Menchik, HUD Desk Officer, Office of Management and Budget, Room 10235, New Executive Office Building, Washington, DC 20503.

FOR FURTHER INFORMATION CONTACT: Wayne Eddins, Reports Management Officer, Department of Housing and Urban Development, 451 7th Street, SW., Washington, DC 20410, e-mail Wayne_Eddins@HUD.gov: telephone (202) 708-2374. This is not a toll-free number. Copies of available documents submitted to OMB may be obtained from Mr. Eddins.

SUPPLEMENTARY INFORMATION: This Notice informs the public that the Department of Housing and Urban Development (HUD) has submitted to OMB, for emergency processing, and information collection package to solicit proposals for cooperative research with the Partnership for Advancing Technology in Housing (PATH) program. This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Partnership for Advancing Technology in Housing (PATH) Cooperative Research Program.

OMB Control Number: Pending OMB approval.

Description of the Need for the Information and its Proposed Use: This information collection is required to solicit proposals for cooperative research with the Partnership for Advancing Technology in Housing (PATH) program. This program seeks proposals for cooperative research efforts from members of America's homebuilding industry in areas of mutual interest. Following collection of the proposals, the data (the proposals) will be evaluated in a process that will lead to the award of cooperative agreements for research and other activities which will advance the goals of the PATH program. Without this collection, potential research partners would not be able to apply for cooperative agreements to conduct such activities.

Agency Form Numbers: SF-424, HUD-424-CB, HUD-424-CBW, SF LLL, HUD-2880, HUD-2993, and HUD-2994.

Members of the Affected Public: Housing researchers, trade organizations, and other professionals in the homebuilding industry.

Estimation of the total number of hours needed to prepare the information collection including number of respondents, frequency of response, and hours of response: Information will be submitted annually to apply for awards of cooperative agreements. The following chart details the respondent burden on an annual basis:

Task | Number of respondents | Frequency of responses | Hours per response | Burden hours
Summary Proposal | 20 | Annual | 12.9 | 258
Full Proposal Development | 10 | Annual | 39 | 390
Grant Start Up | 7 | Annual | 26 | 182
Total Estimated Annual Burden Hours: |  |  |  | 830

Authority: The Paperwork Reduction Act of 1995, 44 U.S.C. 35, as amended.

Dated: April 15, 2005.
Harold L. Bunce,
Deputy Assistant Secretary for Economic Affairs, Office of Policy Development and Research.

[FR Doc. 05-8076 Filed 4-21-05; 8:45 am]

BILLING CODE 4210-62-M